EXPORT-IMPORT BANK OF THE UNITED STATES

Intent To Conduct a Detailed Economic Impact Analysis

AGENCY: Export-Import Bank.

ACTION: Notice.

SUMMARY: In conformity with the provisions of Section 2(e)(7)(B) of the Ex-Im Bank Charter, this notice is to inform the public that the Export-Import Bank of the United States has received an application for a loan guarantee to support the export of U.S.-manufactured Boeing 777 and Boeing 737 passenger aircraft that will be operated by an airline in China. The specific amount of the loan guarantee, the value of the transaction, and the amount of new foreign production capacity are not included here because they are proprietary information. However, the total value of the transaction is in excess of $200 million and, based on currently available information, the amount of increased wide-body seat capacity resulting from these aircraft will be 1% or more of comparable wide-body seat capacity within the U.S. airline industry. The aircraft in this transaction will enable passenger route service within China and from China to various regional and international destinations, potentially including the United States.

DATES: Comments are due August 6, 2014.

ADDRESSES: Comments can be sent electronically to economic.impact@exim.gov or by mail to 811 Vermont Avenue, Washington, DC 20571, attention Policy and Planning Division.

James C. Cruse,
Senior Vice President, Policy and Planning.

[FR Doc. 2014-17277 Filed 7-22-14; 8:45 am]

BILLING CODE 6690-01-P